SMALL BUSINESS ADMINISTRATION

Privacy Act System of Records Notice

AGENCY: Small Business Administration.

ACTION: Notice of new system of records.

SUMMARY: The Small Business Administration (SBA) is adding a new system of records to the Agency's Privacy Act System of Records. The new system is called “Servicing and Contract System/Minority Enterprise Development Headquarters Repository (SACS/MDHR). The first purpose is to collect confidential business and financial information used to determine if applicants and current 8(a) participants are in compliance with statutory and regulatory requirements for continued program participation. This electronic system uses information collected on SBA forms and other financial information such as participant and business net worth (collected from personal financial statements and business' balance sheets). The SBA forms have previously been approved by OMB and used as a vehicle to collect 8(a) participant information. Some of this information is entered into the SACS/MEDHR System.

DATES: The new system will be effective immediately without further notice unless comments are received that result in a need for modification.

ADDRESSES: Address comments to Michael P. McHale, Associate Administrator, HUBZone Program, Small Business Administration, 409 3rd Street, SW., Suite 5900, Washington, DC 20416.

FOR FURTHER INFORMATION CONTACT: Michael P. McHale, Associate Administrator, HUBZone Program, (202) 205-6731.

SMALL BUSINESS ADMINISTRATION

System Name:

Servicing and Contracts System/Minority Enterprise Development Headquarters Repository—SBA 180.

System Location:

SBA Headquarters and all SBA district offices. See Appendix A.

Categories of Individuals Covered by the System Include:

Applicants and program participants in SBA's 8(a) Business Development program (8(a)).

Categories of Records in the System Include:

8(a) Business Development program applications, business development working files, business plan files and contract files containing personal and financial information.

Authority for Maintenance of the System:

Public Law 100-656, Small Business Act 15 U.S.C. 636, section (j) (Technical and Management Assistance); Public Law 100-656, 15 U.S.C. 637, section 8(a) (Business Development).

Purpose:

To collect confidential business and financial information used to determine if applicants and current 8(a) participants are in compliance with statutory and regulatory requirements for continued eligibility for program participation. This information facilitates the Agency in carrying out the functions of the Office of 8(a) Business Development.

Routine Uses of Records Maintained in the System, Including Categories of Users and the Purposes of Such Uses, These Records May Be Used, Disclosed, or Referred:

a. To a Congressional office, when the office is inquiring on the individual's behalf; the Member's access rights are no greater than the individual's.

b. To Agency volunteers, interns, grantees, experts and contractors who have been engaged by the Agency to assist in the performance of a service related to this system or records and who need access to the records in order to perform this activity. Recipients of these records shall be required to comply with the requirements of the Privacy Act of 1974, as amended, 5 U.S.C. 552a.

c. To the Federal, state, local or foreign agency or professional organization which investigates, prosecutes, or enforces violation or potential violation of law, arising by general or program statute, or by regulation, rule, or order.

d. To the Department of Justice (DOJ) when any of the following is a party to litigation or has an interest in such litigation, and the use of such records by the DOJ is deemed by the agency to be relevant and necessary to the litigation, provided, however, that in each case, the agency determines the disclosure of the records to the DOJ is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

e. In a proceeding before a court, or adjudicative body, or a dispute resolution body before which the agency is authorized to appear or before which any of the following is a party to litigation or has an interest in litigation, provided, however, that the agency determines that the use of such records is relevant and necessary to the litigation, and that, in each case, the agency determines that disclosure of the records to a court or other adjudicative body is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

Policies and Practices for Storage, Retrieval, Access, Retention and Disposal of Records:

Storage:

Electronic database records reside on the SBA secured mainframe system.

Retrieval:

Name of individual and business name.

Safeguards:

Access and use is limited to persons whose official duties designate such a need; personnel screening by password is used to prevent unauthorized disclosure.

Retention and Disposal:

The 8(a) Business Development program adheres to the SBA's Records Management Program's Standard Operating Procedures (SOP 00 41 2), in particular, Records Group 80. Records Group 80 states that 8(a) subcontracts are destroyed 6 years and 3 months after cutoff; 8(a) business plan files are destroyed 6 years and 3 months after cutoff; and miscellaneous business plan files (non-record subject material) are destroyed 2 years after cutoff.

System Manager(s) and Address:

PA Officer, Associate Administrator for 8(a) Business Development and the Field Office Systems Manager. See Appendix A.

Notification Procedures:

An individual, who is inquiring whether the System of Records contain information about him or her, may submit a record inquiry either in person or in writing to the PA Officer, Associate Administrator for 8(a) Business Development or, Field Office Systems Manager.

Access Procedures:

PA Officer or Field Office Systems Manager will determine procedures.

Contesting Procedures:

Individuals seeking to contest or amend information contained in this system of records should contact the system manager listed above, state the reason(s) for contesting the record and the proposed amendment sought.

Record Source Categories:

Small business concerns who have applied to or are participants in the 8(a) Business Development program.

Delorice P. Ford,
Senior Privacy Act Official.

[FR Doc. 04-20315 Filed 9-9-04; 8:45 am]

BILLING CODE 8025-01-P